DEPARTMENT OF DEFENSE

Department of the Navy

Cancellation of the Notice of Intent To Prepare an Environmental Impact Statement for Stabilization of In-Water Facilities at the Fox Island Laboratory, Tacoma, WA

ACTION: Notice; cancellation.

SUMMARY: The Department of the Navy (DON) hereby cancels its notice of intent to prepare an Environmental Impact Statement for Stabilization of In-Water Facilities at the Fox Island Laboratory, Tacoma, WA, as published in the Federal Register, March 28, 2002, (67 FR 14921).

The previously published notice is cancelled because DON will be considering consolidation of the Fox Island Laboratory with the Bremerton Detachment of the Naval Surface Warfare Center Carderock Division at another location. There are efficiencies of size and economy to be realized by this consolidation. DON will initiate review of the consolidation under the National Environmental Policy Act in the near future.

FOR FURTHER INFORMATION CONTACT: Mr. Robert Kollars, Director, Naval Surface Warfare Center Carderock Division, Detachment Bremerton, Bldg. 290, First Floor, 530 Farragut Ave., Bremerton, WA 98314-5215, phone: (360) 476-4335.

Dated: November 22, 2004.
J.H. Wagshul,
Commander, Judge Advocate General's Corps, U.S. Navy, Federal Register Liaison Officer.

[FR Doc. 04-26543 Filed 12-1-04; 8:45 am]

BILLING CODE 3810-FF-P